DEPARTMENT OF ENERGY

Federal Energy Regulatory Commission

South Carolina Electric & Gas Company; Notice of Intent To File Application for New License

May 11, 2005.

a. Type of Filing: Notice of intent to file application for a new license.

b. Project No.: P-516-000.

c. Date Filed: May 2, 2005.

d. Submitted By: South Carolina Electric & Gas Company.

e. Name of Project: Saluda Hydroelectric Project.

f. Location: On the Saluda River, in Lexington, Richland, Newberry, and Saluda Counties, South Carolina. The project does not occupy any Federal lands.

g. Filed Pursuant to: Section 15 of the Federal Power Act; 18 CFR 16.6 of the Commission's regulations.

h. Effective Date of Current License: June 1, 1984.

i. Expiration Date of Current License: August 31, 2010.

j. The Project Consists of: (1) A 7,800-foot-long earth-fill dam; (2) a reservoir (Lake Murray) with a full-pool surface area of about 48,400 acres; (3) five concrete and steel intake towers with associated penstocks; (4) a 305-foot-long concrete spillway structure containing 6 radial gates; (5) a 327-foot-long concrete, brick, and steel powerhouse with 5 generating units, having a rated plant capacity of 207.3 megawatts; and (6) appurtenant facilities.

k. Pursuant to 18 CFR 16.7, information on the project is available through: James M. Landreth, Vice President, Fossil & Hydro Operations; South Carolina Electric & Gas Company; 111 Research Drive, Columbia, SC 29203; telephone: (803) 217-7224; Fax: (803) 217-9568; e-mail: jlandreth@scana.com.

l. FERC Contact: Allan Creamer, (202) 502-8365 or allan.creamer@ferc.gov.

m. The licensee states its unequivocal intent to submit an application for a new license for Project No. 516-000. Pursuant to 18 CFR 16.8, 16.9, and 16.10 each application for a new license and any competing license applications must be filed with the Commission at least 24 months prior to the expiration of the existing license. All applications for license for this project must be filed by August 31, 2008.

n. A copy of this filing is available for review at the Commission in the Public Reference Room or may be viewed on the Commission's Web site at http://www.ferc.gov using the “eLibrary” link. Enter the docket number to access the document excluding the last three digits in the docket number field to access the document. For assistance, contact FERC Online Support at FERCOnlineSupport@ferc.gov or toll-free at 1-866-208-3676, or TTY 202-502-8659. A copy is also available for inspection and reproduction at the address in item (k) above.

o. Register online at http://www.ferc.gov/docs-filing/esubscription.asp to be notified via e-mail of new filings and issuances related to this or other pending projects. For assistance, contact FERC Online Support as shown in the paragraph above.

p. By this notice, the Commission is seeking corrections and updates to the attached mailing list for the Saluda Hydroelectric Project. Updates should be filed with Magalie R. Salas, Secretary, Federal Energy Regulatory Commission, 888 First Street, NE., Washington, DC 20426.

Magalie R. Salas,
Secretary.

[FR Doc. E5-2475 Filed 5-16-05; 8:45 am]

BILLING CODE 6717-01-P